DEPARTMENT OF INTERIOR

National Park Service

[NPS-IMR-BIBE-34285; PPIMBIBES0, PPMPSPD1Z.YM]

Determination of Eligibility for Consideration as Wilderness Areas, Big Bend National Park

AGENCY: National Park Service, Interior.

ACTION: Notice of Determination of Wilderness Eligibility for Lands in Big Bend National Park.

SUMMARY: Pursuant to the Wilderness Act of 1964, and in accordance with National Park Service (NPS) Management Policies 2006 (MP 2006), Section 6.2.1, the NPS has completed a Wilderness Eligibility Assessment to determine if lands within the North Rosillos (Harte Ranch) section of Big Bend National Park meet criteria indicating eligibility for preservation as wilderness. The NPS has concluded that 63,505 acres of the 67,135 acres assessed are found to be eligible for inclusion in the wilderness preservation system because they have wilderness criteria described in the Wilderness Act of 1964. This acreage represents 7.9% of the park's total 801,365 acres.

ADDRESSES: Maps of the lands assessed are on file at Big Bend National Park Headquarters, 1 Alsate Drive, Big Bend National Park, Texas.

FOR FURTHER INFORMATION CONTACT: Superintendent Bob Krumenaker, Big Bend National Park Superintendent, P.O. Box 129, Big Bend National Park, TX 79834. Phone (432) 477-1102, Email bob_krumenaker@nps.gov.

SUPPLEMENTARY INFORMATION: The Big Bend National Park staff reviewed the Primary Eligibility Criteria, Section 6.2.1.1 of MP 2006 to evaluate the wilderness eligibility of the North Rosillos area, which was authorized in 1980 to be added to the national park. All of the lands within the expanded boundary were assessed except for one large inholding of approximately 25,000 acres. Of the park's original 700,000 acres, 538,250 acres within the park had been recommended to U.S. Congress for formal wilderness designation in 1978 (67% of the park), and an additional 44,750 acres were recommended for potential wilderness (6% of the park).

Public notices announcing the park's intention to conduct this assessment were placed in the Federal Register May 3, 2000, and public meetings that were announced by mailings and newsletters were conducted in four Texas communities in May, 2000. While a draft memo called a Wilderness Suitability Assessment was included as an appendix to the park's 2004 General Management Plan, the Assessment remained unfinished until 2022.

NPS will take no action that would diminish the wilderness eligibility of the area found to be possessing wilderness characteristics until the legislative process of wilderness designation has been completed, as required by Chapter 6 of MP 2006. All of the assessed lands remain subject to management in accordance with the NPS Organic Act and all other laws, Executive orders, regulations, and policies applicable to units of the National Park System; the 3,636 acres of ineligible lands will not be subject to the additional requirements of MP 2006 Chapter 6.

If/when a formal wilderness study is conducted to determine which of the eligible lands, if any, should be proposed for inclusion in the National Wilderness Preservation System, tribal consultation will be initiated, as will public review and comment under NEPA and the National Historic Preservation Act.

Charles F. Sams, III,
Director, National Park Service.

[FR Doc. 2023-02469 Filed 2-3-23; 8:45 am]

BILLING CODE 4312-52-P